DEPARTMENT OF AGRICULTURE

Forest Service

Fresno County Resource Advisory Committee

AGENCY: Forest Service, USDA.

ACTION: Notice of rescheduled resource advisory meeting.

SUMMARY: Pursuant to the authorities in the Federal Advisory Committee Act of 1972 (Pub. L. 92-463) and under the secure Rural Schools and Community Self-Determination Act of 2000 (Pub. L. 106-393) the Sierra and Sequoia National Forests' Resource Advisory Committee (RAC) for Fresno County will meet on July 16, 2002, 6:30-9:30 p.m. instead of June 18, 2002. The meeting is rescheduled due to the completion of the voting for projects recommended for 2001 funds at the May 14th meeting. The Fresno County Resource Advisory Committee will meet at the Districts Ranger's office, Prather, CA. The purpose of the meeting is for the Resource Advisory Committee to receive project proposals for recommendations to the Forest Supervisor for expenditures of Fresno County Title II funds.

DATES: The Fresno RAC meeting will be held on July 16, 2002. The meeting will be held from 6:30 p.m. to 9:30 p.m.

ADDRESSES: The Fresno County RAC meeting will be held at the Sierra National Forest, High Sierra District Ranger office, 29688 Auberry Road, Prather, CA.

FOR FURTHER INFORMATION CONTACT: Sue Exline, USDA, Sierra National Forest, 1600 Tollhouse Road, Clovis, CA 93611, (559) 297-0706 ext. 4804; e-mail skexline@fs.fed.us.

SUPPLEMENTARY INFORMATION: Agenda items to be covered include: (1) Review and approve the May 14, 2002 meeting notes; (2) Discuss new business of the RAC if applicable; (3) Discuss the status of the 2001 projects' funds; (4) Discuss the Board of Supervisors meeting of June 4th; (5) Consideration of Title II Project proposals from the public and/or the RAC members; (6) Determine the date and location of the next meeting; (7) Public comment. The meeting is open to the public. Public input opportunity will be provided and individuals will have the opportunity to address the Committee at that time.

Dated: May 14, 2002.
Ray Porter,
District Ranger.

[FR Doc. 02-12884 Filed 5-22-02; 8:45 am]

BILLING CODE 3410-11-M